DEPARTMENT OF COMMERCE

Foreign-Trade Zones Board

[Order No. 1474]

Expansion of Foreign-Trade Zone 22, Chicago, Illinois, Area

Pursuant to its authority under the Foreign-Trade Zones Act of June 18, 1934, as amended (19 U.S.C. 81a-81u), the Foreign-Trade Zones Board (the Board) adopts the following Order:

Whereas, the Illinois International Port District, grantee of Foreign-Trade Zone 22, submitted an application to the Board for authority to expand FTZ 22 to: include a site (142 acres) at the ProLogis Park 80 (Site 8) in Morris, a site (12 acres) at the Eagle Global Logisitcs facility (Site 9) in Elk Grove Village, a site (43 acres) at the Bolingbrook Distribution Center (Site 10) in Bolingbrook, and a site (157 acres) at the Heartland Corporate Center (Site 11) in Shorewood; restore zone status to 41 acres removed from Site 5 (CenterPoint Intermodal Center); and, grant zone status to Temporary Site 7 (O'Hare Express North Business Park) on a permanent basis in the Chicago, Illinois, area, within the Chicago Customs port of entry (FTZ Docket 49-2005; filed 10/14/05);

Whereas, notice inviting public comment was given in the Federal Register (70 FR 61429, 10/24/05), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 22 is approved, subject to the FTZ Act and the Board's regulations, including Section 400.28, and further subject to the Board's standard 2,000-acre activation limit for the overall zone project and a sunset provision for Sites 8 through 11 that would terminate authority for the sites on September 30, 2011, for any of the sites that have not been activated under FTZ procedures prior to that date.

Signed at Washington, DC, this 21st day of August 2006.

David M. Spooner,
Assistant Secretary of Commerce,for Import Administration, Alternate Chairman, Foreign-Trade Zones Board.
Attest:
Andrew McGilvray,
Acting Executive Secretary.

[FR Doc. E6-14337 Filed 8-28-06; 8:45 am]

BILLING CODE 3510-DS-S